DEPARTMENT OF TRANSPORTATION

Federal Highway Administration

Environmental Impact Statement: Winnebago County, IL and Rock County, WI

AGENCY: Federal Highway Administration (FHWA), DOT.

ACTION: Notice of Intent.

SUMMARY: The FHWA is issuing this notice to advise the public that an environmental impact statement will not be prepared for the corridor extending from the intersection of Wisconsin Route 213 and Nye School Road northwest of Beloit, Rock County, Wisconsin to the interchange of Rockton Road and I-90 southeast of South Beloit, Winnebago County, Illinois.

FOR FURTHER INFORMATION CONTACT: Norman R. Stoner, P.E., Division Administrator, Federal Highway Administration, 3250 Executive Park Drive, Springfield, Illinois 62703, Phone: (217) 492-4600. George F. Ryan, P.E., Region Two Engineer, District 2, Illinois Department of Transportation, 819 Depot Avenue, Dixon, Illinois 61021, Phone: (815) 284-2271.

SUPPLEMENTARY INFORMATION: The FHWA, in cooperation with the Illinois Department of Transportation, published a notice of intent to prepare an Environmental Impact Statement (EIS) in the Federal Register dated October 26, 1995 (Volume 60, Number 207, pp. 54910-54911) to study a proposal to construct a highway on new alignment over a distance of approximately eight miles to better serve the transportation needs of the Beloit and Janesville Urbanized Areas.

Due to public opposition, lack of regional support and a change in the conditions in the region that warranted the study, this project has been cancelled and no further project activities will occur.

Comments or questions concerning this notice should be directed to FHWA or the Illinois Department of Transportation at the addresses provided above.

Issued on: April 30, 2010.
Norman R. Stoner,
Division Administrator, Springfield, Illinois.

[FR Doc. 2010-10768 Filed 5-6-10; 8:45 am]

BILLING CODE 4910-22-P